FEDERAL COMMUNICATIONS COMMISSION

47 CFR Part 73

[DA 00-1215, MM Docket No. 00-97, RM-9865]

Digital Television Broadcast Service; Richmond, VA

AGENCY: Federal Communications Commission.

ACTION: Proposed rule.

SUMMARY: The Commission requests comments on a petition filed by Central Virginia Educational Telecommunications Corporation, licensee of station WCVE-TV, NTSC Channel *23 requesting the substitution of DTV Channel *42 for station WCVE-TV's assigned DTV Channel *24. DTV Channel *42 can be allotted to Richmond, Virginia, in compliance with the principle community coverage requirements of Section 73.625(a) at reference coordinates 37-30-46 N and 77-36-06 W. As requested, we propose to allot DTV Channel *42 to Richmond with a power of 100 (kW) and a height above average terrain (HAAT) of 327 meters.

DATES: Comments must be filed on or before July 27, 2000, and reply comments on or before August 11, 2000.

ADDRESSES: Federal Communications Commission, 445 12th Street, SW., Room TW-A325, Washington, DC 20554. In addition to filing comments with the FCC, interested parties should serve the petitioner, or its counsel or consultant, as follows: Richard J. Bodorff, E. Joseph Knoll III, Wiley, Rein & Fielding, 1776 K Street, NW., Washington, DC 20006 (Counsel for Central Virginia Educational Telecommunications Corporation).

FOR FURTHER INFORMATION CONTACT: Pam Blumenthal, Mass Media Bureau, (202) 418-1600.

SUPPLEMENTARY INFORMATION: This is a synopsis of the Commission's Notice of Proposed Rule Making, MM Docket No. 00-97, adopted June 2, 2000, and released June 5, 2000. The full text of this Commission decision is available for inspection and copying during normal business hours in the FCC Reference Center 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-14613 Filed 6-9-00; 8:45 am]

BILLING CODE 6712-01-P